Title 3—

The President

Proclamation 7735 of November 14, 2003

National American Indian Heritage Month, 2003

By the President of the United States of America

A Proclamation

During National American Indian Heritage Month, we honor the accomplishments and culture of American Indians and Alaska Natives and recognize their contributions to our country. To help educate Americans and illustrate the important role of these native people to our Nation, the new National Museum of the American Indian will open next year.

American Indians and Alaska Natives have a long tradition of serving with pride and accomplishment in the United States Armed Forces. Today, their patriotism is reflected in the more than 13,000 American Indians and Alaska Natives serving on active duty and the more than 6,400 reservists. In Iraq, Specialist Lori Piestewa of the Army's 507th Maintenance Company and a member of the Hopi tribe, was the first American servicewoman killed in Operation Iraqi Freedom and the only known American Indian woman killed in action in any conflict. Her bravery, service, and sacrifice are an inspiration to our men and women in uniform and to all Americans.

To ensure the future success of America's tribal communities, my Administration is committed to improving education, increasing employment and economic development, and ensuring better access to health and human services for all American Indians and Alaska natives. Government-wide, we proposed in the 2004 Budget to spend over $11 billion on Native American programs. The Department of Education's Office of Indian Education is working to implement the No Child Left Behind Act of 2001 within the Native American community. Indian tribes, schools, and local education agencies that serve American Indian and Native Alaska children will have access to nearly $122 million in grants to improve education opportunities. In addition, the Department of the Interior's 2004 program includes over $49 million for America's tribal colleges and universities. This investment will help American Indian students reach their full potential and achieve their dreams. We are also working to address the healthcare needs of American Indians, particularly the rising incidence of diabetes.

The United States has a strong relationship with American Indian tribes and Alaska Native entities. By continuing to work on a government-to-government basis with these tribal governments, we are fostering greater understanding and promoting tribal self-determination and self-governance.

NOW, THEREFORE, I, GEORGE W. BUSH, President of the United States of America, by virtue of the authority vested in me by the Constitution and laws of the United States, do hereby proclaim November 2003 as National American Indian Heritage Month. This month, I encourage citizens to learn more about the rich heritage of American Indians and Alaska Natives and the role they have played in building and sustaining our Nation and to commemorate this month with appropriate programs and activities.

IN WITNESS WHEREOF, I have hereunto set my hand this fourteenth day of November, in the year of our Lord two thousand three, and of the Independence of the United States of America the two hundred and twenty-eighth.

B

[FR Doc. 03-29072

Filed 11-18-03; 8:45 am]

Billing code 3195-01-P